DEPARTMENT OF VETERANS AFFAIRS

[OMB Control No. 2900—NEW]

Agency Information Collection Submission for OMB Emergency Review: Request for Restoration of Educational Assistance

AGENCY: Veterans Benefits Administration, Department of Veterans Affairs.

ACTION: Emergency clearance notice and request for comments.

SUMMARY: The Veterans Benefits Administration (VBA), Department of Veterans Affairs (VA), submitted a request to the Office of Management and Budget (OMB) for emergency clearance and review of VA Form 22-0989, Request for Restoration of Educational Assistance, 2900—NEW. Under the Paperwork Reduction Act (PRA) of 1995, VA is soliciting comments for this collection.

DATES: Comments on this proposal for emergency review should be received within April 26, 2018. VA is requesting OMB to take action within 30 calendar days from the close of this Federal Register Notice on the request for emergency review. This process is conducted in accordance with 5 CFR 1320.1.

ADDRESSES: Interested persons are invited to submit written comments on the proposed collection of information to the Office of Information and Regulatory Affairs, Office of Management and Budget, 725 17th Street NW, Washington, DC 20503, Attention: Desk Officer for the Department of Veterans Affairs, or sent via electronic mail to oira_submission@omb.eop.gov. To obtain a copy of associated documents for this information collection, access Reginfo.gov. Please refer to “OMB Control No. 2900—NEW, Restoration” in any correspondence.

SUPPLEMENTARY INFORMATION: VA Form 22-0989 will allow students to apply for restoration of entitlement for VA education benefits used at a school that closed or had its approval to receive VA benefits withdrawn. Education Service requests approval of this information collection in order to carry out the implementation of the law which requires VA to immediately accept applications to restore education benefits for school closures and disapprovals beginning after January 1, 2015. Under the PRA of 1995, Federal agencies must obtain approval from the Office of Management and Budget (OMB) for each collection of information they conduct or sponsor. This request for comment is being made pursuant to Section 3506(c)(2)(A) of the PRA. With respect to the following collection of information, the Office of Management and Budget is particularly interested in comments that: (1) Evaluate whether the proposed collection of information is necessary for the proper performance of VBA's functions, including whether the information will have practical utility; (2) Evaluate the accuracy of VBA's estimate of the burden of the proposed collection of information; (3) Enhance the quality, utility, and clarity of the information to be collected; and (4) Minimize the burden of the collection of information on respondents, including through the use of automated collection techniques or the use of other forms of information technology, permitting electronic submissions of responses.

Authority: 38 U.S.C. 3699.

Title: Request for Restoration of Educational Assistance, VA Form 22-0989.

OMB Control Number: 2900—NEW.

Type of Review: Emergency.

Affected Public: Individuals or Households.

Frequency of Response: Once.

Estimated Number of Respondents: 14,045.

Estimated Burden per Respondent: 15 minutes.

Total Burden Hours: 3,511 hours.

By direction of the Secretary:
Cynthia Harvey-Pryor,
Agency Clearance Officer, Office of Quality and Compliance, Department of Veterans Affairs.

[FR Doc. 2018-06085 Filed 3-26-18; 8:45 am]

BILLING CODE 8320-01-P